DEPARTMENT OF LABOR

Office of the Secretary

Agency Recordkeeping/Reporting Requirements Under Emergency Review by the Office of Management and Budget (OMB)

May 21, 2001.

The Department of Labor (DOL) has submitted the following emergency processing public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation contact Darrin King at (202) 693-4129 or E-Mail King-Darrin@dol.gov.

Comments should be sent to Office of Information and Regulatory Affairs, Attn: OMB Desk officer for ETA, Office of Management and Budget, Room 10235, Washington, DC 20503 ((202) 395-7316), by May 30, 2001.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Emergency.

Agency: Employment and Training Administration (ETA).

Title: Reporting and Performance Standards System for Migrant and Seasonal Farmworker Programs Under Title I, Section 167 of the Workforce Investment Act (WIA).

OMB Number: 1205-0NEW.

Affected Public: State, Local, or Tribal Government; Not-for-profit institutions.

Total Annualized Capital/Startup Costs: $0.

Total Annual Costs (operating/maintaining systems or purchasing services): $0.

Reporting and recordkeeping requirements | Number of respondents | Number of annual responses | Frequency | Estimated time per response (hours) | Burden hours
Plan Narrative | 53 | 53 | Annually | 20 | 1,060
Data Record | 53 | 42,250 | On occasion | 2 | 84,500
Report from Data Record | 53 | 212 | Quarterly | 1 | 212
Form ETA 9093, Budget Information Summary | 53 | 53 | Annually | 15 | 795
Form ETA 9094, Program Planning Summary | 53 | 53 | Annual | 16 | 848
Form ETA 9095, Program Status Summary | 53 | 212 | Quarterly | 7 | 1,484
Totals |  | 42,833 |  |  | 88,899

Description: This is a proposed collection of participant information relating to the operation of employment and training programs for Migrant and Seasonal Farmworkers under title I, section 167 of the Workforce Investment Act (WIA). It also contains the basis of the new performance standards system for WIA section 167 grantees.

Ira L. Mills,
Departmental Clearance Officer.

[FR Doc. 01-13383 Filed 5-25-01; 8:45 am]

BILLING CODE 4510-30-M